DEPARTMENT OF LABOR

Employment and Training Administration

[TA-W-64,799]

Aromatique, Inc., Mountain View Production Facility, Mountain View, AR; Notice of Termination of Investigation

Pursuant to Section 221 of the Trade Act of 1974, as amended, an investigation was initiated on December 31, 2008 in response to a petition filed by the Arkansas Department of Workforce Services on behalf of the workers of Aromatique, Inc., Mountain View Production Facility, Mountain View, Arkansas.

The petitioner has requested that the petition be withdrawn. Consequently, the investigation has been terminated.

Signed at Washington, DC, this 30th day of January 2009.
Richard Church,
Certifying Officer, Division of Trade Adjustment Assistance.

[FR Doc. E9-2741 Filed 2-9-09; 8:45 am]

BILLING CODE 4510-FN-P